DEPARTMENT OF THE INTERIOR

Notice of Intent To Prepare a General Management Plan and Environmental Impact Statement for Abraham Lincoln Birthplace National Historic Site

AGENCY: National Park Service.

ACTION: Notice.

SUMMARY: The National Park Service will prepare an Environmental Impact Statement on the General Management Plan for Abraham Lincoln Birthplace National Historic Site. This notice is being published in accordance with 40 CFR 1506.6. The statement will assess potential environmental impacts associated with various types and levels of visitor use and resources management within the National Historic Site. This General Management Plan/Environmental Impact Statement is being prepared in response to the requirements of the National Parks and Recreation Act of 1978, Pub. L. 95-625, and in accord with Director's Order Number 2, the planning directive for National Park Service units.

The National Park Service will conduct public scoping meetings in the local area to receive input from interested parties on issues, concerns, and suggestions pertinent to the management of Abraham Lincoln Birthplace National Historic Site. Representatives of the National Park Service will be available to discuss issues, resource concerns, and the planning process at each of the public meetings. Suggestions and ideas for managing the cultural and natural resources and visitor experiences at the park are encouraged. Anonymous comments will not be considered. We will make all submissions from organizations or businesses, and from individuals identifying themselves as representatives or officials of organizations or businesses, available for public inspection in their entirety. However, individual respondents may request that we withhold their names and addresses from the public record, and we will honor such requests to the extent allowed by law. If you wish to withhold your name and/or address, you must state that request prominently at the beginning of your comment.

DATES: Locations, dates, and times of public scoping meetings will be published in local newspapers and may also be obtained by contacting the park Superintendent. This information will also be published on the General Management Plan Web site (http://www.nps.gov/abli) for Abraham Lincoln Birthplace.

ADDRESSES: Scoping suggestions should be submitted to the following address to ensure adequate consideration by the National Park Service: Superintendent, Abraham Lincoln Birthplace National Historic Site, 2995 Lincoln Farm Road, Hodgenville, Kentucky 42748, Telephone: 270-358-3137, e-mail: Abli_Superintendent@nps.gov.

FOR FURTHER INFORMATION CONTACT: Superintendent, Abraham Lincoln Birthplace National Historic Site, 2995 Lincoln Farm Road, Hodgenville, Kentucky 42748, Telephone: 270-358-3137, e-mail: Abli_Superintendent@nps.gov.

SUPPLEMENTARY INFORMATION: Abraham Lincoln Birthplace National Historic Site is located about 3 miles south of Hodgenville, Kentucky, on U.S. Highway 31E and Kentucky Highway 61. The park was authorized on June 11, 1940, and now consists of more than 340 acres. The park was established in 1933 when it was transferred from the War Department to the National Park Service. The site contains a cabin, symbolic of the one in which Lincoln was born, preserved in a memorial building at the site of his birth. The Master Plan was completed in 1964 and in the ensuing years much has changed. A boundary change occurred in 1998, which added a Boyhood Home Unit to the park. This area contains the site of the Lincoln farm along with the field and surrounding woodland area belonging to that farm. Also the site contains a historic tavern and replica cabin. A General Management Plan and Environmental Impact Statement would provide the park with better guidance and direction in regard to management of natural and cultural resources and providing a quality visitor experience.

The plan will provide direction to correct existing management deficiencies through the establishment of management prescriptions, carrying capacities and appropriate types and levels of development and recreational use for all areas of the park. Resource protection, visitor experiences and community relationships will be improved through completion and implementation of the General Management Plan.

Public documents associated with the planning effort, including all newsletters, will be posted on the Internet through the Park's Web site at http://www.nps.gov/abli.

The Draft and Final General Management Plan and Environmental Impact Statement will be made available to all known interested parties and appropriate agencies. Full public participation by federal, state, and local agencies as well as other concerned organizations and private citizens is invited throughout the preparation process of this document.

The responsible official for this Environmental Impact Statement is Patricia A. Hooks, Acting Regional Director, Southeast Region, National Park Service, 100 Alabama Street SW., 1924 Building, Atlanta, Georgia 30303.

Dated: September 23, 2003.
Patricia A. Hooks,
Acting Regional Director, Southeast Region.

[FR Doc. 03-28388 Filed 11-12-03; 8:45 am]

BILLING CODE 4310-L6-P